DEPARTMENT OF THE TREASURY

Office of Foreign Assets Control

Unblocking of a Specially Designated National and Blocked Person Pursuant to the Foreign Narcotics Kingpin Designation Act

AGENCY: Office of Foreign Assets Control, Treasury.

ACTION: Notice.

SUMMARY: The Department of the Treasury's Office of Foreign Assets Control (OFAC) is publishing the name of one individual whose property and interests in property have been unblocked pursuant to the Foreign Narcotics Kingpin Designation Act (Kingpin Act).

DATES: The unblocking and removal from the list of Specially Designated Nationals and Blocked Persons (SDN List) of the individual identified in this notice whose property and interests in property were blocked pursuant to the Kingpin Act, is effective on April 7, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury.

SUPPLEMENTARY INFORMATION:

Electronic Availability

The SDN List and additional information concerning OFAC sanctions programs are available from OFAC's Web site (www.treas.gov/ofac).

Notice of OFAC Actions

On April 7, 2017, OFAC removed from the SDN List the individual listed below, whose property and interests in property were blocked pursuant to the Kingpin Act:

1. SALAZAR UMANA, Jose Adan (a.k.a. “CHEPE DIABLO”), Metapan, Santa Ana, El Salvador; DOB 16 Jun 1948; POB Metapan, El Salvador; nationality El Salvador; citizen El Salvador; National ID No. 02071606480022 (El Salvador) (individual) [SDNTK]

Dated: April 7, 2017.
Andrea Gacki,
Acting Director, Office of Foreign Assets Control.

[FR Doc. 2017-07373 Filed 4-11-17; 8:45 am]

BILLING CODE 4810-AL-P